DEPARTMENT OF ENERGY

Office of Energy Efficiency & Renewable Energy

[Docket Number EERE-2015-BT-BC-0001]

Request for Information: Updating and Improving the DOE Methodology for Assessing the Cost-Effectiveness of Building Energy Codes

AGENCY: Office of Energy Efficiency and Renewable Energy, Department of Energy.

ACTION: Extension of public comment period.

SUMMARY: This notice announces an extension of the time period for submitting comments on the request for information on the DOE Methodology for Assessing the Cost-effectiveness of Building Energy Codes, which was originally published in the Federal Register on April 14, 2015 (80 FR 19974). The comment period is extended to June 3, 2015.

DATES: Comments on the RFI must be received no later than June 3, 2015.

ADDRESSES: Instructions: Comments must identify the docket number EERE-2015-BT-BC-0001 and may be submitted using any of the following methods:

1. Regulations.gov: http://www.regulations.gov/#!docketDetail;D=EERE-2015-BT-BC-0001. Follow the instructions for submitting comments.

2. Email: BCMethodology2015BC0001@ee.doe.gov. Include docket number EERE-2015-BT-BC-0001 in the subject line of the message.

3. Postal Mail: Ms. Brenda Edwards; U.S. Department of Energy, Building Technologies Office EE-5B, 1000 Independence Avenue SW., Washington, DC 20585; Phone: (202) 586-2945. Please submit one signed paper original.

Further instructions, including the use of topic identifiers, are provided in the Public Participation section of the original notice. Comments submitted in response to the notice will become a matter of public records and will be made publicly available.

Public Docket: The docket, which includes notices published in the Federal Register and public comments received, is available for review at Regulations.gov. All documents in the docket are listed in the Regulations.gov index. However, some documents listed in the index, such as those containing information exempt from public disclosure, may not be publicly available. A link to the docket Web page can be found under Public Participation at: http://www.energycodes.gov/events. This Web page will also contain a link to the docket for this notice on Regulations.gov. The Regulations.gov site will contain instructions on how to access all documents, including public comments, in the docket.

For further information on how to submit a comment, review comments received, or otherwise participate in the public comment process, contact Ms. Brenda Edwards by phone at (202) 586-2945 or email: Brenda.Edwards@ee.doe.gov.

FOR FURTHER INFORMATION CONTACT: Mr. Jeremiah Williams; U.S. Department of Energy, Office of Energy Efficiency and Renewable Energy, Building Technologies Office EE-5B, 1000 Independence Avenue SW., Washington, DC 20585; Phone: (202) 287-1941, Email: jeremiah.williams@ee.doe.gov.

For legal matters, contact: Kavita Vaidyanathan; U.S. Department of Energy, Office of the General Counsel, Forrestal Building, Mailstop GC-33, 1000 Independence Ave SW., Washington, DC 20585; Phone: (202) 586-0669, Email: kavita.vaidyanathan@hq.doe.gov.

SUPPLEMENTARY INFORMATION: On April 14, 2015, the U.S. Department of Energy (DOE or the Department) published a request for information (RFI) in the Federal Register (80 FR 19974) to request information on how the Department may update and improve the methodology it intends to use for assessing cost effectiveness (which includes an energy savings assessment) of building energy codes. The RFI provided for the submission of comments by May 14, 2015. One commenter requested an extension of the comment period in order to sufficiently study and understand the proposed changes and their impacts. It was also noted that many interested stakeholders might also be participating in code development hearings held by the International Code Council (ICC) through April 30th. DOE has concluded that an extension of the comment period is warranted based on the timing of the ICC code development hearings, and is hereby extending the public comment period through June 3, 2015.

Issued in Washington, DC, on May 8, 2015.
Roland Risser,
Director, Building Technologies Office, Energy Efficiency and Renewable Energy.

[FR Doc. 2015-11662 Filed 5-13-15; 8:45 am]

BILLING CODE 6450-01-P